DEPARTMENT OF THE INTERIOR

Office of the Secretary

Agency Information Collection Activities: OMB Emergency Approval and Proposed Renewal; Comment Request

AGENCY: Office of the Secretary (OS), Interior.

ACTION: Notice of an OMB emergency approval and of extension of an information collection (1093-0004).

SUMMARY: To comply with the Paperwork Reduction Act of 1995 (PRA), we are inviting comments on a collection of information that the Office of Management and Budget (OMB) approved on an emergency basis on June 24, 2003, and that we will submit to OMB for review and approval as a continuing information collection. The information collection request (ICR) concerns the paperwork requirements to carry out the Take Pride In America Program Act, 16 U.S.C. 4601-4608.

DATES: Submit written comments by September 22, 2003.

ADDRESSES: Mail or hand carry comments to the Department of the Interior, Office of the Secretary, Take Pride In America Program, MS-3459, 1849 C Street, NW., Washington, DC 20240. If you wish to e-mail comments, the address is: TakePride@ios.doi.gov. Reference “Information Collection 1093-0004” in your e-mail subject line and mark your message for return receipt. Include your name and return address in your message.

FOR FURTHER INFORMATION CONTACT: Marti Allbright, Take Pride In America, 202-208-5848. You may also contact Marti Allbright to obtain a copy, at no cost, of the Take Pride In America Program Act that necessitates this collection of information.

SUPPLEMENTARY INFORMATION: Title: Take Pride In America National Awards Application/Nomination Process.

OMB Control Number: 1093-0004.

Abstract: Under the Take Pride In America Program Act (Act), 16 U.S.C. Sec. 4601-4608, the Secretary is to: (1) “conduct a national awards program to honor those individuals and entities which, in the opinion of the Secretary of the Interior * * * have distinguished themselves in activities” under the purposes of the Act; and also to (2) “establish and maintain a public awareness campaign in cooperation with public and private organizations and individuals—(A) to instill in the public the importance of the appropriate use of, and appreciation for Federal, State, and local lands, facilities, and natural and cultural resources; (B) to encourage an attitude of stewardship and responsibility toward these lands, facilities, and resources; and (C) to promote participation by individuals, organizations, and communities of a conservation ethic in caring for these lands, facilities, and resources.” The Act states that “[t]he Secretary is authorized * * * generally to do any and all lawful acts necessary or appropriate to further the purposes of the TPIA Program.”

The Take Pride In America (TPIA) Program was re-launched on April 16, 2003. The Program will collect information provided voluntarily by individuals or organizations about their events and activities to further the purposes of the Act in order to select finalists and winners of the annual Take Pride In America National Awards. The TPIA National Awards recognize the valuable and significant contributions that individuals and organizations make in support of stewardship of America's lands. Their tireless and creative efforts play a vital role in protecting, conserving, and enhancing America's wealth of natural, historical, and cultural resources. These awards recognize the efforts of individuals and organizations in both the public and private sectors for outstanding stewardship involving Federal, State, local, Tribal, and private lands.

We will use the information collected primarily to select finalists and winners of the TPIA National Awards. Information also will be used to assure the integrity of the Program (so that, for example, an individual or organization does not receive an award twice for the same project), for reporting on the accomplishments of the Program, for the public awareness campaign (such as press releases and website information on winning projects); and to further the purposes of the Act (such as fostering partnerships and coordination of projects).

OMB approved TPIA's application instructions and form on June 24, 2003, on an emergency basis, with an expiration date of December 31, 2003. The approved application instructions and form can be reviewed through the Internet, on http://www.TakePride.gov.

We will process any information in accordance with the Freedom of Information Act (5 U.S.C. 552) and its implementing regulations at the Department (43 CFR part 2). No items of a sensitive nature are collected. Responses are voluntary.

Frequency: Primarily Annually.

Estimated Number and Description of Respondents: Approximately 500 voluntary responses from the public, another 500 from Federal employees.

Estimated Reporting and Recordkeeping “Hour” Burden: The currently approved annual reporting burden for this collection is 250 hours for the first year for an estimated 250 respondents. For this ICR, that burden will increase to 500 hours with the estimated increase in respondents. In calculating the burden, we assumed that respondents perform certain requirements in the normal course of their activities. We consider these to be usual and customary and took that into account in estimating the burden.

Estimated Reporting and Recordkeeping “Non-Hour Cost” Burden: We have identified no cost burdens for this collection.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the “non-hour cost” burdens to respondents or recordkeepers resulting from the collection of information. Therefore, if you have costs to generate, maintain, and disclose this information, you should comment and provide your total capital and startup cost components or costs of annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or, (iv) as part of customary and usual business or private practices.

We will summarize written responses to this notice and address them in our submission for OMB approval. As a result of your comments, we will make any necessary adjustments to the burden in our submission to OMB.

Public Comment Policy: Our practice is to make comments, including names and home addresses of respondents, available for public review during regular business hours. Individual respondents may request that we withhold their home address from the record, which we will honor to the extent allowable by law. There may be circumstances in which we would withhold from the record a respondent's identify, as allowable by the law. If you wish us to withhold your name and/or address, you must state this prominently at the beginning of your comment. However, we will not consider anonymous comments. We will make all submissions from organizations or businesses, and from individuals identifying themselves as representatives or officials of organizations or businesses, available for public inspection in their entirety.

Dated: July 16, 2003.
Marti Allbright,
Executive Director, Take Pride In America Program.

[FR Doc. 03-18677 Filed 7-22-03; 8:45 am]

BILLING CODE 4310-RK-M